DEPARTMENT OF TRANSPORTATION

Surface Transportation Board

[STB Finance Docket No. 33945]

Boot Hill & Western Railway Co., L.C.—Acquisition Exemption—Dodge City Ford & Bucklin Railroad Co.

Boot Hill & Western Railway Co., L.C. (BHWR), a noncarrier, has filed a notice of exemption under 49 CFR 1150.31 to acquire and operate approximately 25.73 miles of rail line from the Dodge City Ford & Bucklin Railroad Company. The line is located between milepost 347.9, at Bucklin, KS, and milepost 373.63, at Dodge City, KS. In conjunction with the acquisition of the rail line, BHWR will also acquire approximately 1.5 miles of incidental overhead trackage rights over a rail line owned by Union Pacific Railroad Company between Engineer Station 11+88 and Engineer Station 52+84.9, at Dodge City. The purpose of the trackage rights is to enable BHWR to interchange traffic with The Burlington Northern and Santa Fe Railway Company at Dodge City. BHWR certifies that its projected revenues as a result of this transaction will not result in its becoming a Class II or Class I rail carrier, and further certifies that its annual revenues will not exceed $5 million.

The transaction is expected to be consummated on or shortly after December 6, 2000.

If the notice contains false or misleading information, the exemption is void ab initio. Petitions to revoke the exemption under 49 U.S.C. 10502(d) may be filed at any time. The filing of a petition to revoke will not automatically stay the transaction.

An original and 10 copies of all pleadings, referring to STB Finance Docket No. 33945, must be filed with the Surface Transportation Board, Office of the Secretary, Case Control Unit, 1925 K Street, NW., Washington, DC 20423-0001. In addition, a copy of each pleading must be served on Karl Morell, BALL, JANIK LLP, Suite 225, 1455 F Street, NW., Washington, DC 20005.

Board decisions and notices are available on our website at “www.stb.dot.gov.”

Decided: December 5, 2000.

By the Board, David M. Konschnik, Director, Office of Proceedings.

Vernon A. Williams,
Secretary.

[FR Doc. 00-31472 Filed 12-12-00; 8:45 am]

BILLING CODE 4915-00-P